DEPARTMENT OF THE INTERIOR

National Park Service

[N6962; NPS-WASO-NAGPRA-NPS0042096; PPWOCRADN0-PCU00RP14.R50000]

Notice of Intended Repatriation: California Department of Parks and Recreation, Sacramento, CA

AGENCY: National Park Service, Interior.

ACTION: Notice.

SUMMARY: In accordance with the Native American Graves Protection and Repatriation Act (NAGPRA), the California Department of Parks and Recreation intends to repatriate certain cultural items that meet the definition of unassociated funerary objects and that have a cultural affiliation with the Indian Tribes or Native Hawaiian organizations in this notice.

DATES: Repatriation of the cultural items in this notice may occur on or after April 1, 2026.

ADDRESSES: Send additional, written requests for repatriation of the cultural items in this notice to Dr. Leslie L. Hartzell, NAGPRA Coordinator, California Department of Parks and Recreation, P.O. Box 942896, Sacramento, CA 94296-0001, email Leslie.Hartzell@parks.ca.gov.

SUPPLEMENTARY INFORMATION: This notice is published as part of the National Park Service's administrative responsibilities under NAGPRA. The determinations in this notice are the sole responsibility of the California Department of Parks and Recreation, and additional information on the determinations in this notice, including the results of consultation, can be found in the summary or related records. The National Park Service is not responsible for the determinations in this notice.

Abstract of Information Available

A total of 29 cultural items have been requested for repatriation.

The 16 lots of unassociated funerary objects are modified stone, unmodified stone, charcoal, crystal, faunal bone, bone tools, glass fragments, hoof shoes, wood tools, nails, pendant, ochre, seed, shell, wood, and unidentified items. In 1977, the cultural items were removed from CA-ELD-201 (Pedersen Site), in Eldorado County, CA, during salvage data recovery work led by John W. Foster during a period of drought at Folsom Reservoir.

The four lots of unassociated funerary objects are projectile points (whole or fragments), an obsidian flake, soapstone objects, a volcanic glass chunk. Between 2004 and 2005, the cultural items were removed from CA-ELD-260 in Eldorado County, CA, during a DPR project at Folsom Lake State Recreation Area.

The two lots of unassociated funerary objects are chipped stone artifacts or debitage and a drilled soapstone chunk. The cultural items were removed from CA-ELD-262 in Eldorado County, CA, during a DPR project at Folsom Lake State Recreation Area.

The four lots of unassociated funerary objects are granite pestle, greenstone hammer, cobble chopper, and glass trade bead. In 1980, Fritz Riddell removed the cultural items from CA-SAC-185, in Sacramento County, CA, at Folsom Lake State Recreation Area.

The one lot of unassociated funerary objects is a glass bead (082-X-3910). At an unknown date, the cultural item was removed from CA-SAC-29, in Sacramento County, CA. At an unknown date, Curtis A. Boyd transferred the cultural item to California Department of Parks and Recreation.

The two lots of unassociated funerary objects are flaked stone and ground stone. At an unknown date, the cultural items were removed from CA-SAC-320, located on private property in Sacramento County, CA, by a “pot hunter” and received by DPR in 1983.

Determinations

The California Department of Parks and Recreation has determined that:

• The 29 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Shingle Springs Band of Miwok Indians, Shingle Springs Rancheria (Verona Tract), California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 1, 2026. If competing requests for repatriation are received, the California Department of Parks and Recreation must determine the most appropriate requestor prior to repatriation. Requests for joint repatriation of the cultural items are considered a single request and not competing requests. The California Department of Parks and Recreation is responsible for sending a copy of this notice to the Indian Tribes and Native Hawaiian organizations identified in this notice and to any other consulting parties.

Authority: Native American Graves Protection and Repatriation Act, 25 U.S.C. 3004 and the implementing regulations, 43 CFR 10.9.

Dated: February 20, 2026.
Melanie O'Brien,
Manager, National NAGPRA Program.

[FR Doc. 2026-04047 Filed 2-27-26; 8:45 am]

BILLING CODE 4312-52-P